DEPARTMENT OF ENERGY

Federal Energy Regulatory Commission

Combined Notice of Filings

February 6, 2018.

Take notice that the Commission has received the following Natural Gas Pipeline Rate and Refund Report filings:

Filings Instituting Proceedings

Docket Number: PR18-27-000.

Applicants: NorthWestern Corporation.

Description: Tariff filing per 284.123(b),(e)/: Revised Rate Schedules for Transportation and Storage Service (D2017.11.86) to be effective 1/1/2018; Filing Type: 980.

Filed Date: 1/31/18.

Accession Number: 201801315068.

Comments/Protests Due: 5 p.m. ET 2/21/18.

Docket Numbers: RP17-913-002.

Applicants: Natural Gas Pipeline Company of America.

Description: Compliance filing Compliance Filing.

Filed Date: 2/1/18.

Accession Number: 20180201-5112.

Comments Due: 5 p.m. ET 2/13/18.

Docket Numbers: RP18-408-000.

Applicants: Northern Natural Gas Company.

Description: § 4(d) Rate Filing: 20180201 Annual PRA to be effective 4/1/2018.

Filed Date: 2/1/18.

Accession Number: 20180201-5041.

Comments Due: 5 p.m. ET 2/13/18.

Docket Numbers: RP18-409-000.

Applicants: Gulf South Pipeline Company, LP.

Description: § 4(d) Rate Filing: Amendment to Neg Rate Agmt (FPL 41619-17) to be effective 2/1/2018.

Filed Date: 2/1/18.

Accession Number: 20180201-5071.

Comments Due: 5 p.m. ET 2/13/18.

Docket Numbers: RP18-410-000.

Applicants: Gulf South Pipeline Company, LP.

Description: § 4(d) Rate Filing: Cap Rel Neg Rate Agmt (Pivotal 34691 to Sequent 49016) to be effective 2/1/2018.

Filed Date: 2/1/18.

Accession Number: 20180201-5074.

Comments Due: 5 p.m. ET 2/13/18.

Docket Numbers: RP18-411-000.

Applicants: Gulf Crossing Pipeline Company LLC.

Description: § 4(d) Rate Filing: Cap Rel Neg Rate Agmt (Newfield 18 to SW Energy 1945) to be effective 2/2/2018.

Filed Date: 2/1/18.

Accession Number: 20180201-5088.

Comments Due: 5 p.m. ET 2/13/18.

Docket Numbers: RP18-412-000.

Applicants: Tennessee Gas Pipeline Company, L.L.C.

Description: § 4(d) Rate Filing: Volume No. 2—Neg Rate Nonconforming Mitsui Co Cameron LNG SP326297 to be effective 3/1/2018.

Filed Date: 2/1/18.

Accession Number: 20180201-5107.

Comments Due: 5 p.m. ET 2/13/18.

Docket Numbers: RP18-413-000.

Applicants: Gulf South Pipeline Company, LP.

Description: § 4(d) Rate Filing: Neg Rate Agmt (DTE 41614) to be effective 2/1/2018.

Filed Date: 2/1/18.

Accession Number: 20180201-5111.

Comments Due: 5 p.m. ET 2/13/18.

Docket Numbers: RP18-414-000.

Applicants: Great Lakes Gas Transmission Limited Par.

Description: Great Lakes Gas Transmission Limited Partnership submits its Semi-Annual Transporter's Use Report under RP18-414.

Filed Date: 1/31/18.

Accession Number: 20180131-5294.

Comments Due: 5 p.m. ET 2/12/18.

Docket Numbers: RP18-416-000.

Applicants: Viking Gas Transmission Company.

Description: § 4(d) Rate Filing: Update to Title Page Negotiated Rate Agreements to be effective 3/2/2018.

Filed Date: 2/2/18.

Accession Number: 20180202-5082.

Comments Due: 5 p.m. ET 2/14/18.

Docket Numbers: RP18-417-000.

Applicants: Trailblazer Pipeline Company LLC.

Description: § 4(d) Rate Filing: TPC Administrative Filing to be effective 3/5/2018.

Filed Date: 2/2/18.

Accession Number: 20180202-5119.

Comments Due: 5 p.m. ET 2/14/18.

Docket Numbers: RP18-418-000.

Applicants: Rockies Express Pipeline LLC.

Description: § 4(d) Rate Filing: Neg Rate 2018-02-02 BP, CP to be effective 2/3/2018.

Filed Date: 2/2/18.

Accession Number: 20180202-5165.

Comments Due: 5 p.m. ET 2/14/18.

Docket Numbers: RP18-419-000.

Applicants: Dominion Energy Cove Point LNG, LP.

Description: § 4(d) Rate Filing: DECP—Liquefaction Project (CP13-113) Services, Neg. Rates, & Nonconforming SAs to be effective 3/5/2018.

Filed Date: 2/2/18.

Accession Number: 20180202-5189.

Comments Due: 5 p.m. ET 2/14/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2018-02772 Filed 2-9-18; 8:45 am]

BILLING CODE 6717-01-P